DEPARTMENT OF THE INTERIOR

Fish and Wildlife Service

[Docket No. FWS-R2-ES-2016-0141; FXES11140200000-189-FF02ENEH00]

Final Environmental Impact Statement and Draft Record of Decision on the Barton Springs/Edwards Aquifer Conservation District Habitat Conservation Plan for Two Salamander Species in Travis and Hays Counties, Texas

AGENCY: Fish and Wildlife Service, Department of the Interior.

ACTION: Notice of availability.

SUMMARY: We, the U.S. Fish and Wildlife Service, under the National Environmental Policy Act, make available the final environmental impact statement and draft record of decision analyzing the impacts of issuance of an incidental take permit for implementation of the Barton Springs/Edwards Aquifer Conservation District (BSEACD) Habitat Conservation Plan (HCP). Our decision is to issue a 20-year incidental take permit for implementation of the BSEACD HCP, which authorizes incidental take of two listed salamanders under the Endangered Species Act.

DATES: We will finalize the record of decision and issue a permit no sooner than August 13, 2018.

ADDRESSES: You may obtain copies of the documents in the following formats:

• Electronic:

○ http://www.regulations.gov, in Docket No. FWS-R2-ES-2016-0141.

○ http://www.fws.gov/southwest/es/AustinTexas.

○ CD-ROM: Contact Mr. Adam Zerrenner (see FOR FURTHER INFORMATION CONTACT).

○ Telephone: 512-490-0057.

• Hard copy: You may review the documents at the following locations (by appointment only):

○ Department of the Interior, Natural Resources Library, 1849 C Street NW, Washington, DC 20240. Call (202) 208-5815.

○ U.S. Fish and Wildlife Service, 500 Gold Avenue SW, Room 6034, Albuquerque, NM 87102. Call (505) 248-6920.

○ U.S. Fish and Wildlife Service, 10711 Burnet Road Suite 200, Austin, TX 78758. Call (512) 490-0057.

FOR FURTHER INFORMATION CONTACT: Mr. Adam Zerrenner, Field Supervisor, by phone at 512-490-0057, via fax at 512-490-0974, or by U.S. mail at U.S. Fish and Wildlife Service, 10711 Burnet Road, Suite 200, Austin, TX 78758.

SUPPLEMENTARY INFORMATION: We, the U.S. Fish and Wildlife Service (Service), announce the availability of several documents related to an incidental take permit (ITP) application under the Endangered Species Act of 1973, as amended (ESA; 16 U.S.C. 1531 et seq.). The final environmental impact statement (EIS) and draft record of decision (ROD) were developed in compliance with the agency decision-making requirements of the National Environmental Policy Act (NEPA; 42 U.S.C. 4321 et seq.), and are based on the habitat conservation plan (HCP) as submitted by the Barton Springs/Edwards Aquifer Conservation District (BSEACD, or applicants). We described all four alternatives in detail, which were fully evaluated and analyzed in our 2018 final EIS. The draft ROD documents the rationale for our decision.

Our proposed action is to issue an ITP to the applicants under section 10(a)(1)(B) of the ESA that authorizes incidental take of the Barton Springs salamander (Eurycea sosorum) and Austin blind salamander (Eurycea waterlooensis) during management of the Barton Springs segment of the Edwards Aquifer. The aquifer is the primary water supply for more than 70,000 people in the region and the source water for the Barton Springs complex. The applicants requested a term of 20 years from the date of issuance. The applicants will fully implement minimization and mitigation measures to offset impacts to the covered species according to their HCP.

The minimization measures include: Providing the most efficient use of groundwater, controlling and preventing waste of groundwater, addressing conjunctive surface water management issues, addressing natural resource management issues, addressing drought conditions, addressing demand reduction through conservation, addressing supply through structural enhancement, and quantitatively addressing established desired future conditions.

The mitigation measures include a commitment to:

• Support the operations of an existing refugium through in-kind, contracted support, cash provision, or other appropriate means;

• conduct a feasibility study of dissolved oxygen augmentation and, if warranted, implement a pilot project at Main Spring at Barton Springs;

• maintain and operate the Antioch Recharge Enhancement Facility for the permit term;

• establish a new reserve fund for closing abandoned wells to eliminate high-risk abandoned wells as potential conduits for contaminants from the surface or adjacent formations into the aquifer, with priority given to problematic wells close to the Barton Springs outlets or those associated with water chemistry concerns under severe drought conditions; and

• provide leadership and technical assistance to other government entities, organizations, and individuals when prospective land-use and groundwater management activities in those entities' purview will, in the District's assessment, significantly affect the quantity or quality of groundwater in the Aquifer.

In addition to this notice, the Environmental Protection Agency (EPA) published a notice announcing the EIS on July 13, 2018, as required under the Clean Air Act, section 309 (42 U.S.C. 7401 et seq.; see EPA's Role in the EIS Process below).

Background

The applicants have applied for an ITP (TE10607C-0) under the ESA that would authorize incidental take of two covered species and would be in effect for a period of 20 years. The proposed incidental take of the covered species would occur from lawful, non-Federal activities from groundwater withdrawals from registered wells (non-exempt) in the Edwards Aquifer that are authorized and regulated under the BSEACD's permitting program and activities necessary to manage potential habitat for the covered species within the permit area (covered activities). The BSEACD HCP Plan Area includes Hays and Travis Counties, Texas. The final EIS considers the direct, indirect, and cumulative effects of implementing the HCP, including the measures that will be implemented to minimize and mitigate such impacts to the maximum extent practicable.

Section 9 of the ESA and its implementing regulations in title 50 of the Code of Federal Regulations (CFR) prohibit “take” of fish and wildlife species listed as endangered or threatened under the ESA. The ESA defines “take” as “to harass, harm, pursue, hunt, shoot, wound, kill, trap, capture, or collect listed animal species, or attempt to engage in such conduct” (16 U.S.C. 1533). The term “harm” is defined in the regulations as significant habitat modification or degradation that results in death or injury to listed species by significantly impairing essential behavioral patterns, including breeding, feeding, or sheltering (50 CFR 17.3). However, we may, under specified circumstances, issue permits that allow the take of federally listed species, provided that the take is incidental to, but not the purpose of, otherwise lawful activity. Regulations governing ITPs for endangered and threatened species are at 50 CFR 17.22 and 17.32, respectively.

On July 18, 2017, we issued a draft EIS and requested public comment on our evaluation of the potential impacts associated with issuance of an ITP for implementation of the BSEACD HCP and to evaluate alternatives (82 FR 32861). We held a public meeting in Austin, Texas, August 22, 2017. The public comment period closed on September 18, 2017.

We identified key issues and relevant factors through public scoping and meetings, working with other agencies and groups, and reviewing comments from the public. We received responses from one local government agency and two nongovernmental agencies. We believe these comments are addressed and reasonably accommodated in the final documents, and we have included the public's comments and our responses in Appendix A5-1 of the final EIS.

Decision

We intend to issue an ITP allowing the applicants to implement the BSEACD HCP. Our decision is based on a thorough review of the alternatives and their environmental consequences. Implementing this decision entails issuing an ITP to BSEACD and full implementation of the HCP by the applicants, including minimization and mitigation measures, monitoring and adaptive management, and complying with all terms and conditions in the ITP.

A final ITP decision will be made no sooner than 30 days after the publication of this notice of availability and completion of the record of decision.

EPA's Role in the EIS Process

In addition, EPA published a notice on July 13, 2018, in the Federal Register announcing the EIS for the April 2018 Habitat Conservation Plan for Managed Groundwater Withdrawals from the Barton Springs Segment of the Edwards Aquifer, as required under the Clean Air Act, section 309. The EPA's publication date of the notice of availability is the official beginning of the public review period. The EPA is charged with reviewing all Federal agencies' EISs and commenting on the adequacy and acceptability of the environmental impacts of proposed actions in EISs.

The EPA also serves as the repository (EIS database) for EISs, which Federal agencies prepare. All EISs must be filed with EPA, which publishes a notice of availability on Fridays in the Federal Register. For more information, see https://www.epa.gov/nepa. You may search for EPA comments on EISs, along with EISs themselves, at https://cdxnodengn.epa.gov/cdx-enepa-public/action/eis/search.

Authority: We provide this notice under section 10(c) of the ESA (16 U.S.C. 1531 et seq.) and its implementing regulations (50 CFR 17.22 and 17.32) and NEPA (42 U.S.C. 4321 et seq.) and its implementing regulations (40 CFR 1506.6).

Amy L. Lueders
Regional Director, Southwest Region, Albuquerque, New Mexico.

[FR Doc. 2018-15222 Filed 7-16-18; 8:45 am]

BILLING CODE 4333-15-P